ENVIRONMENTAL PROTECTION AGENCY

[FRL-8955-6]

Science Advisory Board Staff Office; Notification of a Public Meeting and Public Teleconference(s) of the Clean Air Scientific Advisory Committee (CASAC) Particulate Matter Review Panel

AGENCY: Environmental Protection Agency (EPA).

ACTION: Notice.

SUMMARY: The Environmental Protection Agency (EPA) Science Advisory Board (SAB) Staff Office announces a public meeting and teleconference(s) of the Clean Air Scientific Advisory Particulate Matter Review Panel to peer review EPA's Integrated Science Assessment for Particulate Matter: Second External Review Draft (July 2009) and EPA's forthcoming Risk Assessment to Support the Review of the PM Primary National Ambient Air Quality Standards: External Review Draft (September 2009) and Particulate Matter Urban-Focused Visibility Assessment: External Review Draft (September 2009).

DATES: The public meeting will be held on October 5, 2009 from 8 a.m.-6 p.m. (Eastern Time) and October 6, 2009 from 8 a.m.-4 p.m. (Eastern Time). An optional public teleconference may be held on October 7, 2009 from 2 p.m.-5 p.m. (Eastern Time) if more time is needed after the face-to-face meeting of October 5-6, 2009. A teleconference will be held November 12, 2009 from 10 a.m.-12 p.m. (Eastern Time) to discuss draft letters from CASAC.

ADDRESSES: The October 5-6, 2009 meeting will be held at the Carolina Inn, 211 Pittsboro Street, Chapel Hill, NC 27516. The public teleconference(s) will be conducted by telephone only.

FOR FURTHER INFORMATION CONTACT: Any member of the public who wants further information concerning the public meeting or public teleconference(s) may contact Dr. Holly Stallworth, Designated Federal Officer (DFO), EPA Science Advisory Board (1400F), U.S. Environmental Protection Agency, 1200 Pennsylvania Avenue, NW., Washington, DC 20460; via telephone/voice mail (202) 343-9867; fax (202) 233-0643; or e-mail at stallworth.holly@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App 2. The Panel will comply with the provisions of FACA and all appropriate SAB Staff Office procedural policies.

Section 109(d)(1) of the CAA requires that the Agency periodically review and revise, as appropriate, the air quality criteria and the National Ambient Air Quality Standard (NAAQS) for the six “criteria” air pollutants, including particulate matter (PM). EPA conducts scientific assessments to determine both primary (health-based) and secondary (welfare-based) standards for each of these pollutants. As part of that process, EPA's Office of Research and Development (ORD) has released the Integrated Science Assessment for Particulate Matter (Second External Review Draft, July 2009) for review by CASAC at the October 5-6, 2009 meeting. EPA's Office of Air and Radiation (OAR) will release two additional documents for CASAC review and public comment entitled Risk Assessment to Support the Review of the PM Primary National Ambient Air Quality Standards: External Review Draft (September 2009) and Particulate Matter Urban-Focused Visibility Assessment: External Review Draft (September 2009) on or about September 4, 2009. The purpose of the October 5-6, 2009 meeting is to review these three documents. In addition, this meeting will also include a discussion with CASAC of an EPA/OAR document entitled Policy Assessment for the Review of the Particulate Matter National Ambient Air Quality Standards: Preliminary Draft (September 2009) on the nature of the policy assessment document including the overall structure, areas of focus, and level of detail. The EPA plans to release this preliminary draft document on or about September 15, 2009. If additional time is needed to complete the agenda after the October 5-6, 2009 face-to-face meeting, a public teleconference will be held on October 7, 2009 from 2 p.m.-5 p.m. (Eastern Time). To review and approve CASAC's draft letters on the three review documents, a public teleconference will be held on November 12, 2009 from 10 a.m.-12 p.m. (Eastern Time).

Background information about the formation of the CASAC Particulate Matter Review Panel was published in the Federal Register on March 8, 2007 (72 FR 10527-10528). The Panel previously held a public teleconference on November 30, 2007 (announced in 72 FR 63177-63178) to provide consultative advice on EPA's draft Integrated Review Plan for the National Ambient Air Quality Standards for Particulate Matter (October 2007), the first document in this review of the PM NAAQS. On April 1-2, 2009, CASAC reviewed the Integrated Science Assessment for Particulate Matter (First External Review Draft, December 2008), and provided consultative advise on Particulate Matter National Ambient Air Quality Standards: Scope and Methods Plan for Health Risk (February 2009) and Exposure Assessment and Particulate Matter National Ambient

Air Quality Standards: Scope and Methods Plan for Urban Visibility Impact Assessment (February 2009). The April 12, 2009 meeting was announced February 19, 2009 in 74 FR 7688-7689.

Technical Contacts: Any questions concerning EPA's Integrated Science Assessment for Particulate Matter (July 2009) should be directed to Dr. Lindsay Stanek, ORD, at stanek.lindsay@epa.gov or 919-541-7792. Any questions concerning EPA's Risk Assessment to Support the Review of the PM Primary National Ambient Air Quality Standards: External Review Draft (September 2009) should be directed to Dr. Zachary Pekar, OAR, at pekar.zachary@epa.gov; telephone: 919-541-3704. Any questions concerning Particulate Matter Urban-Focused Visibility Assessment (September 2009) should be directed to Ms. Vicki Sandiford, OAR, at sandiford.vicki@epa.gov or 919-541-2629. Any questions concerning Policy Assessment for the Review of Particulate Matter National Ambient Air Quality Standards (September 2009) should be directed to Ms. Beth Hassett-Sipple, OAR, at hassett-sipple.beth@epa.gov or 919-541-4605.

Availability of Meeting Materials: A meeting agenda, charge questions and other materials for the October 5-6, 2009 meeting will be placed on the CASAC Web site at http://yosemite.epa.gov/sab/sabpeople.nsf/WebCommitteesSubcommittees/CASAC%20Particulate%20Matter%20Review%20Panel (see links to “Current Advisory Activities”). CASAC's draft letters on the three review documents will be at this same URL prior to the November 12, 2009 teleconference. The Integrated Science Assessment for Particulate Matter: Second External Review Draft (July 2009) is available at http://www.epa.gov/ttn/naaqs/standards/pm/s_pm_2007_isa.html. The Risk Assessment to Support the Review of the PM Primary National Ambient Air Quality Standards: External Review Draft (September 2009) and the Particulate Matter Urban-Focused Visibility Assessment: External Review Draft (September 2009) will be available on or before September 4, 2009 and the Policy Assessment for the Review of Particulate Matter National Ambient Air Quality Standards: Preliminary Draft (September 2009) will be available on or about September 15, 2009 at http://www.epa.gov/ttn/naaqs/standards/pm/s_pm_index.html.

Procedures for Providing Public Input: Interested members of the public may submit relevant written or oral information for consideration on the topics included in this advisory activity. Oral Statements: To be placed on the public speaker list for the October 5-6, 2009 meeting, interested parties should notify Dr. Holly Stallworth, DFO, by e-mail no later than September 28, 2009. Individuals making oral statements will be limited to five minutes per speaker. To be placed on the public speaker list for the November 12, 2009 teleconference, interested parties should notify Dr. Stallworth, DFO, by e-mail no later than November 9, 2009. Individuals making oral statements on the teleconference will be limited to three minutes per speaker. Written Statements: Written statements for the October 5-6, 2009 meeting should be received in the SAB Staff Office by September 28, 2009, so that the information may be made available to the CASAC Panel for its consideration prior to this meeting. Written statements for the November 12, 2009 meeting should be received in the SAB Staff Office by November 9, 2009. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Stallworth at the phone number or e-mail address noted above, preferably at least ten days prior to the teleconference, to give EPA as much time as possible to process your request.

Dated: September 2, 2009.
Vanessa T. Vu,
Director, EPA Science Advisory Board Staff Office.

[FR Doc. E9-21821 Filed 9-9-09; 8:45 am]

BILLING CODE 6560-50-P